DEPARTMENT OF HOMELAND SECURITY

Coast Guard

33 CFR Part 165

[Docket Number USCG-2017-1112]

RIN 1625-AA00

Safety Zones; Annual Events in the Captain of the Port Buffalo Zone.

AGENCY: Coast Guard, DHS.

ACTION: Notice of proposed rulemaking.

SUMMARY: The Coast Guard proposes to amend its safety zones regulation for Annual Events in the Captain of the Port Buffalo Zone. This proposed amendment updates 12 permanent safety zones and adds 12 new permanent safety zones. These amendments and additions are necessary to protect spectators, participants, and vessels from the hazards associated with annual maritime events, including fireworks displays, boat races, and air shows. We invite your comments on this proposed rulemaking.

DATES: Comments and related material must be received by the Coast Guard on or before May 21, 2018.

ADDRESSES: You may submit comments identified by docket number USCG-2017-1112 using the Federal eRulemaking Portal at http://www.regulations.gov. See the “Public Participation and Request for Comments” portion of the SUPPLEMENTARY INFORMATION section for further instructions on submitting comments.

FOR FURTHER INFORMATION CONTACT: If you have questions about this proposed rulemaking, call or email LT Michael Collet, Chief of Waterways Management, U.S. Coast Guard Sector Buffalo; telephone 716-843-9322, email D09-SMB-SECBuffalo-WWM@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

On June 18, 2008, the Coast Guard published a final rule entitled Safety Zones; Annual Fireworks Events in the Captain of the Port Buffalo Zone in the Federal Register (73 FR 28705). This final rule was published after the Coast Guard requested public comments in response to a preceding NPRM in the Federal Register (73 FR 18225, April 3, 2008). No public meeting was requested, and none was held.

The legal basis for this proposed rule is the Coast Guard's authority to establish safety zones: 33 U.S.C. 1231; 33 CFR 1.05-1, 160.5; Department of Homeland Security Delegation No. 0170.1.

The purpose of this rulemaking is to update the safety zones in § 165.939 to ensure accuracy of times, dates, and dimensions for various triggering and marine events that are expected to be conducted within the Captain of the Port Buffalo Zone throughout the year. The purpose of the rulemaking is also to ensure vessels and persons are protected from the specific hazards related to the aforementioned events. These specific hazards include obstructions in the waterway that may cause marine casualties; collisions among vessels maneuvering at a high speed within a channel; the explosive dangers involved in pyrotechnics and hazardous cargo; and flaming/falling debris into the water that may cause injuries. The Coast Guard proposes this rulemaking under authority in 33 U.S.C. 1231.

III. Discussion of Proposed Rule

This proposed rule amends 12 permanent safety zones found within table 165.939 of 33 CFR 165.939. These 12 amendments involve updating the location, size, and/or enforcement times.

Additionally, this proposed rule adds 12 new safety zones to table 165.939 within § 165.939 for annually-reoccurring events in the Captain of the Port Buffalo Zone. These 12 zones were approved and published in the Federal Register as temporary safety zones in 2017 and were added in order to protect the public from the safety hazards previously described. A list of specific changes and additions are available in the attachments within this Docket.

The Captain of the Port Buffalo has determined that the safety zones in this proposed rule are necessary to ensure the safety of vessels and people during annual marine or triggering events in the Captain of the Port Buffalo zone. Although this proposed rule will be effective year-round, the safety zones in this proposed rule will be enforced only immediately before, during, and after events that pose a hazard to the public and only upon notice by the Captain of the Port Buffalo.

The Captain of the Port Buffalo will notify the public that the zones in this proposal are or will be enforced by all appropriate means to the affected segments of the public, including publication in the Federal Register, as practicable, in accordance with 33 CFR 165.7(a). Such means of notification may also include, but are not limited to, Broadcast Notice to Mariners or Local Notice to Mariners.

All persons and vessels must comply with the instructions of the Coast Guard Captain of the Port Buffalo or his or her designated representative. Entry into, transiting, or anchoring within the safety zones is prohibited unless authorized by the Captain of the Port or his or her designated representative. The Captain of the Port or his or her designated representative may be contacted via VHF Channel 16.

IV. Regulatory Analyses

We developed this proposed rule after considering numerous statutes and Executive Orders related to rulemaking. Below we summarize our analyses based on a number of these statutes and Executive Orders and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, this NPRM has not been reviewed by the Office of Management and Budget (OMB), and pursuant to OMB guidance it is exempt from the requirements of Executive Order 13771.

This regulatory action determination is based on the size, location, duration, and time-of-day of the safety zones. The safety zones created by this rule will be relatively small and effective during the time to ensure safety of spectator and participants for the listed triggering or marine events. Moreover, the Coast Guard would issue a Broadcast Notice to Mariners via VHF-FM marine channel 16 about the zone, and the rule would allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Management Directive 023-01, which guides the Coast Guard in complying with the National Environmental Policy Act of 1969 (42 U.S.C. 4321-4370f), and have made a preliminary determination that this action is one of a category of actions that do not individually or cumulatively have a significant effect on the human environment. This proposed rule involves the establishment yearly triggering and marine events on and around Lake Erie, Lake Ontario, and the Saint Lawrence Seaway. Normally such actions are categorically excluded from further review under paragraph L[61] of Appendix A, Table 1 of DHS Instruction Manual 023-01-001-01, Rev. 01. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

Documents mentioned in this NPRM as being available in the docket, and all public comments, will be in our online docket at http://www.regulations.gov and can be viewed by following that website's instructions. Additionally, if you go to the online docket and sign up for email alerts, you will be notified when comments are posted or a final rule is published.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. Revise § 165. 939 to read as follows:

§ 165.939 Safety Zones; Annual Events in the Captain of the Port Buffalo Zone.

(a) Regulations. (1) In accordance with the general regulations in § 165.23 of this part, entry into, transiting, or anchoring within this safety zone is prohibited unless authorized by the Captain of the Port Buffalo or his designated on-scene representative.

(2) These safety zones are closed to all vessel traffic, except as may be permitted by the Captain of the Port Buffalo or his designated on-scene representative.

(3) The “on-scene representative” of the Captain of the Port Buffalo is any Coast Guard commissioned, warrant or petty officer who has been designated by the Captain of the Port Buffalo to act on his behalf.

(4) Vessel operators desiring to enter or operate within the safety zone must contact the Captain of the Port Buffalo or his on-scene representative to obtain permission to do so. The Captain of the Port Buffalo or his on-scene representative may be contacted via VHF Channel 16. Vessel operators given permission to enter or operate in the safety zone must comply with all directions given to them by the Captain of the Port Buffalo, or his on-scene representative.

(5) The enforcement dates and times for each of the safety zones listed in Table 165.939 are subject to change, but the duration of enforcement would remain the same or nearly the same total number of hours as stated in the table. In the event of a change, the Captain of the Port Buffalo will provide notice to the public by publishing a Notice of Enforcement in the Federal Register, as well as, issuing a Broadcast Notice to Mariners.

(b) Definitions. The following definitions apply to this section:

(1) Designated representative means any Coast Guard commissioned, warrant, or petty officers designated by the Captain of the Port Buffalo to monitor a safety zone, permit entry into a safety zone, give legally enforceable orders to persons or vessels within a safety zone, and take other actions authorized by the Captain of the Port Buffalo.

(2) Public vessel means a vessel that is owned, chartered, or operated by the United States, or by a State or political subdivision thereof.

(3) Rain date refers to an alternate date and/or time in which the safety zone would be enforced in the event of inclement weather.

(c) Suspension of enforcement. The Captain of the Port Buffalo may suspend enforcement of any of these zones earlier than listed in this section. Should the Captain of the Port suspend any of these zones earlier than the listed duration in this section, he or she may make the public aware of this suspension by Broadcast Notice to Mariners and/or on-scene notice by his or her designated representative.

(d) Exemption. Public vessels, as defined in paragraph (b) of this section, are exempt from the requirements in this section.

(e) Waiver. For any vessel, the Captain of the Port Buffalo or his or her designated representative may waive any of the requirements of this section upon finding that operational conditions or other circumstances are such that application of this section is unnecessary or impractical for the purposes of safety or security.

Table 165.939
Event | Location ¹ | Enforcement date and time ²
(a) June Safety Zones
(1) Festival of the Fish | Vermillion, OH. All U.S. waters within a 420 foot radius of the fireworks launch site located at position 41°25′45″ N, 082°21′54″ W (NAD 83) | The 3rd Saturday in June.
(2) City of Syracuse Fireworks Celebration | Syracuse, NY. All U.S. waters of Onondaga Lake within a 350 foot radius of land position 43°03′37.0″ N, 076°09′59.0″ W in Syracuse, NY | The last weekend of June.
(3) Rochester Harbor and Carousel Festival | Rochester, NY. All U.S. waters of Lake Ontario within a 1,120 foot radius of land position 43°15′40.2″ N, 077°36′05.1″ W in Rochester, NY | The 4th Monday of June.
(4) Seneca River Days | Baldwinsville, NY. All U.S. waters of the Seneca River within an 840 foot radius of land position 43°09′25.0″ N, 076°20′21.0″ W in Baldwinsville, NY | The 2nd weekend of June.
(5) Flagship Niagara Mariner's Ball Fireworks | Erie, PA. All waters of Presque Isle Bay, Erie, PA within a 350-foot radius from the launch site located at position 42°08′22.5″ N, 080°05′15.6″ W | The 1st weekend in June.
(6) Hope Chest Buffalo Niagara Dragon Boat Festival | Buffalo, NY. All waters of the Buffalo River, Buffalo, NY starting at position 42°52′12.0″ N, 078°52′17.0″ W then Southeast to 42°52′03.0″ N, 078°52′12.0″ W then East to 42°52′03.0″ N, 078°52′10.0″ W then Northwest to 42°52′13.0″ N, 078°52′16.0″ W and then returning to the point of origin | The 3rd weekend in June.
(b) July Safety Zones
(1) Cleveland Triathlon | Cleveland, OH. All U.S. waters of Lake Erie at North Coast Harbor, Cleveland, OH within 100 feet of a line starting at position 41°30′34.6″ N, 081°41′51.3″ W extending in a straight line to the East Basin Breakwall at position 41°30′51.8″ N, 081°42′08.5″ W | The 4th or 5th Sunday in July.
(2) Roverfest Fireworks Display | Cleveland, OH. All U.S. waters of Lake Erie, Cleveland, OH within a 280 foot radius from position 41°30′34.23″ N, 081°08′55.73″ W | The 2nd or 3rd weekend in July.
(3) Superboat Grand Prix | Fairport, OH. All U.S. waters of Lake Erie, off of Headlands Beach State Park, Fairport, OH inside an area starting on shore at position 41°44′33″ N, 081°19′14″ W, extending NW in a straight line to position 41°45′00″ N, 081°19′35″ W, then NE in a straight line to position 41°45′59″ N, 081°17′30″ W, and SE back to the shore at position 41°45′43″ N, 081°17′08″ W | The 3rd weekend in July.
(4) Downtown Cleveland Alliance July 4th Fireworks | Cleveland, OH. All U.S. waters of Lake Erie and Cleveland Harbor within a 1,000 foot radius of land position 41°30′10″ N, 081°42′36″ W (NAD 83) at Dock 20 | On or around the 4th of July.
(5) Mentor Harbor Yacht Club Fireworks | Mentor, OH. All U.S. waters of Lake Erie and Mentor Harbor within a 700 foot radius of land position 41°43′36″ N, 081°21′09″ W | On or around the 4th of July.
(6) Parade of Lights | Cleveland, OH. All U.S. waters within 25 feet of the vessels participating in the Cleveland Parade of Lights in the Cuyahoga River. The safety zone will move with participating vessels as they transit from the mouth of the Cuyahoga River in the vicinity of position 41°29′59″ N, 081°43′31″ W, to Merwin's Wharf in the vicinity of 41°29′23″ N, 081°42′16″ W, and returning to the mouth of the Old River at 41°29′55″ N, 081°42′18″ W | The 3rd or 4th weekend in July.
(7) Lorain Independence Day Celebration | Lorain, OH. All U.S waters within a 700 foot radius of the fireworks launch site located at position 41°28′35.42″ N, 082°10′51.28″ W | On or around the 4th of July.
(8) Conneaut Festival | Conneaut, OH. All U.S. waters within a 570 foot radius of the fireworks launch site located at position 41°58′00.43″ N, 080°33′34.93″ W | On or around the 4th of July.
(9) Fairport Harbor Mardi Gras | Fairport, OH. All U.S. waters within a 275 foot radius of the fireworks launch site located at position 41°45′29.55″ N, 081°16′19.97″ W | On or around the 4th of July.
(10) Sheffield Lake Community Days | Sheffield Lake, OH. All U.S. waters of Lake Erie and Sheffield Lake Boat ramp within a 350 foot radius of land position 41°29′27.65″ N, 082°6′47.71″ W | The 2nd weekend in July.
(11) Bay Village Independence Day Celebration | Bay Village, OH. All U.S. waters within a 560 foot radius of the fireworks launch site located at position 41°29′23.9″ N, 081°55′44.5″ W | On or around the 4th of July.
(12) Lake Erie Open Water Swim | Cleveland, OH. All U.S. waters of Lake Erie, south of a line drawn between positions 41°29′30″ N, 081°44′21″ W and 41°29′21″ N, 081°45′04″ W to the shore | The 2nd or 3rd weekend in July.
(13) Boldt Castle 4th of July Fireworks | Heart Island, NY. All U.S. waters of the Saint Lawrence River within a 1,120 foot radius of land position 44°20′38.5″ N, 075°55′19.1″ W at Heart Island, NY | On or around the 4th of July.
(14) Clayton Chamber of Commerce Fireworks | Calumet Island, NY. All U.S. waters of the Saint Lawrence River within an 840 foot radius of land position 44°15′04.0″ N, 076°05′40″ W at Calumet Island, NY | On or around the 4th of July.
(15) French Festival Fireworks | Cape Vincent, NY. All U.S. waters of the Saint Lawrence River within an 840 foot radius of land position 44°07′54.6.0″ N, 076°20′01.3″ W in Cape Vincent, NY | The 2nd weekend of July.
(16) Lyme Community Days | Chaumont, NY. All U.S. waters of Chaumont Bay within a 560 foot radius of land position 44°04′06.3″ N, 076°08′56.8″ W in Chaumont, NY | The 4th weekend of July.
(17) Village Fireworks | Sackets Harbor, NY. All U.S. waters of Black River Bay within an 840 foot radius of land position 43°56′51.9″ N, 076°07′46.9″ W in Sackets Harbor, NY | On or around the 4th of July.
(18) Can-Am Festival | Sackets Harbor, NY. All U.S. waters of Black River Bay within a 1,120 foot radius of land position 43°57′15.9″ N, 076°06′39.2″ W in Sackets Harbor, NY | The 3rd weekend of July.
(19) Brewerton Fireworks | Brewerton, NY. All U.S. waters of Lake Oneida within an 840 foot radius of the barge at position 43°14′16.4″ N, 076°08′03.6″ W in Brewerton, NY | On or around the 4th of July.
(20) Celebrate Baldwinsville Fireworks | Baldwinsville, NY. All U.S. waters of the Seneca River within a 700 foot radius of land position 43°09′24.9″ N, 076°20′18.9″ W in Baldwinsville, NY | The 1st weekend of July.
(21) Island Festival Fireworks | Baldwinsville, NY. All U.S. waters of the Seneca River within a 1,120 foot radius of land position 43°09′22.0″ N, 076°20′15.0″ W in Baldwinsville, NY | The 1st weekend of July.
(22) Village Fireworks | Sodus Point, NY. All U.S. waters of Sodus Bay within a 1,120 foot radius of land position 43°16′28.7″ N, 076°58′27.5″ W in Sodus Point, NY | On or around the 4th of July.
(23) A Salute to our Heroes | Hamlin Beach State Park, NY. All U.S. waters of Lake Ontario within a 560 foot radius of land position 43°21′51.9″ N, 077°56′59.6″ W in Hamlin, NY | The 1st weekend in July.
(24) Olcott Fireworks | Olcott, NY. All U.S. waters of Lake Ontario within a 1,120 foot radius of land position 43°20′23.6″ N, 078°43′09.5″ W in Olcott, NY | On or around the 4th of July.
(25) North Tonawanda Fireworks | North Tonawanda, NY. All U.S. waters of the East Niagara River within a 1,400 foot radius of land position 43°01′39.6″ N, 078°53′07.5″ W in North Tonawanda, NY | On or around the 4th of July.
(26) Tonawanda's Canal Fest Fireworks | Tonawanda, NY. All U.S. waters of the East Niagara River within a 210 foot radius of land position 43°01′17.8″ N, 078°52′40.9″ W in Tonawanda, NY | The 4th Sunday of July.
(27) Tom Graves Memorial Fireworks | Port Bay, NY. All waters of Port Bay, NY, within a 840 foot radius of the barge located in position 43°17′52.4″ N, 076°49′55.7″ W in Port Bay, NY | On or around the 3rd of July.
(28) Oswego Harborfest, Oswego, NY | Oswego, NY. All waters of Oswego Harbor, Oswego, NY contained within a 700 foot radius of position 43°28′06.9″ N, 076°31′08.1″ W along with a 350 foot radius of the breakwall between positions 43°27′53.0″ N, 076°31′25.3″ W then Northeast to 43°27′58.6″ N, 076°31′12.1″ W | The last week of July.
(29) Oswego Independence Day Celebration Fireworks | Oswego, NY. All waters of Lake Ontario, Oswego, NY within a 490-foot radius from the launch site located at position 43°27′55.8″ N, 076°30′59.0″ W | On or around the 4th of July.
(c) August Safety Zones
(1) Whiskey Island Paddlefest | Cleveland, OH. All U.S. waters of Lake Erie; Cleveland Harbor, from 41°29′59.5″ N, 081°42′59.3″ W to 41°30′4.4″ N, 081°42′44.5″ W to 41°30′17.3″ N, 081°43′0.6″ W to 41°30′9.4″ N, 081°43′2.0″ W to 41°29′54.9″ N, 081°43′34.4″ W to 41°30′0.1″ N, 081°43′3.1″ W and back to 41°29′59.5″ N, 081°42′59.3″ W (NAD 83) | The 3rd or 4th weekend in August.
(2) D-Day Conneaut | Conneaut, OH. All U.S. waters of Conneaut Township Park, Lake Erie, within an area starting at 41°57′42.6″ N, 080°34′10.8″ W, to 41°58′21.6″ N, 080°34′10.2″ W, then to 41°58′31.8″ N, 080°33′33.0″ W, to 41°58′01.8″ N, 080°33′43.2″ W (NAD 83), and returning to the point of origin | The 3rd weekend in August.
(3) Celebrate Erie Fireworks | Erie, PA. All U.S. waters of Presque Isle Bay within an 800 foot radius of land position 42°08′19.0″ N, 080°05′29.0″ W in Erie, PA | The 3rd weekend of August.
(4) Thunder on the Niagara Hydroplane Boat Races | North Tonawanda, NY. All U.S. waters of the Niagara River near the North Grand Island Bridge, encompassed by a line starting at 43°03′32.9″ N, 078°54′46.9″ W to 43°03′14.6″ N, 078°55′16.0″ W then to 43°02′39.7″ N, 078°54′13.1″ W then to 43°02′59.9″ N, 078°53′42.0″ W and returning to the point of origin | The 2nd weekend of August.
(d) September Safety Zones
(1) Madison Light Up the Park | Madison Township, OH. All U.S. waters of Lake Erie, within a 210 ft radius of position 41°50′17″ N and 081°02′51″ W (NAD 83) | The 1st weekend in September.
(2) Cleveland National Airshow | Cleveland, OH. All U.S. waters of Lake Erie and Cleveland Harbor (near Burke Lakefront Airport) from position 41°30′20″ N and 081°42′20″ W to 41°30′50″ N and 081°42′49″ W, to 41°32′09″ N and 081°39′49″ W, to 41°31′53″ N and 081°39′24″ W, then return to the original position (NAD 83) | The Wednesday before Labor Day through Labor Day.
(3) Head of the Cuyahoga | Cleveland, OH. All U.S. waters of the Cuyahoga River, between a line drawn perpendicular to the river banks from position 41°29′55″ N, 081°42′23″ W (NAD 83) just past the Detroit-Superior Viaduct bridge at MM 1.42 of the Cuyahoga River south to a line drawn perpendicular to the river banks at position 41°28′32″ N, 081°40′16″ W (NAD 83) just south of the Interstate 490 bridge at MM 4.79 of the Cuyahoga River | The 3rd weekend in September.
¹All coordinates listed in Table 165.929 reference Datum NAD 1983.
²As noted in paragraph (a)(3) of this section, the enforcement dates and times for each of the listed safety zones are subject to change, and will be published in a Notice of Enforcement prior to the event.

Dated: April 12, 2018.
J.S. Dufresne,
Captain, U.S. Coast Guard, Captain of the Port Buffalo.

[FR Doc. 2018-08206 Filed 4-18-18; 8:45 am]

BILLING CODE 9110-04-P